DEPARTMENT OF DEFENSE

Department of the Army

Withdrawal of the Notice of Intent To Prepare a Programmatic Environmental Impact Statement for the Stationing and Operation of Joint High Speed Vessels

AGENCY: Department of the Army, DoD.

ACTION: Notice of intent; withdrawal.

SUMMARY: On February 5, 2010, the Department of the Army announced in the Federal Register (75 FR 6003) its intention to prepare a Programmatic Environmental Impact Statement (PEIS) for the stationing and operation of up to 12 Joint High Speed Vessels (JHSVs). In May 2011, the Army's JHSVs were transferred to the U.S. Navy; therefore, the Army is withdrawing the notice of intent.

ADDRESSES: Questions or comments regarding the withdrawal of this action should be forwarded to: Public Affairs Office, U.S. Army Environmental Command, Bldg 2264, Room 209-006, 2450 Connell Road, Fort Sam Houston, TX 78234-7664.

FOR FURTHER INFORMATION CONTACT: Public Affairs Office at (210) 466-0677 or e-mail IMCOM-USAECPublicComments@conus.army.mil.

Brenda S. Bowen,
Army Federal Register Liaison Officer.

[FR Doc. 2011-27693 Filed 10-25-11; 8:45 am]

BILLING CODE 3710-08-P